DEPARTMENT OF COMMERCE

International Trade Administration

U.S. Education Mission to Central America; March 16-19, 2015

AGENCY: International Trade Administration, Department of Commerce.

ACTION: Notice.

Mission Description

The United States Department of Commerce, International Trade Administration, is organizing an education mission to El Salvador and Honduras with an optional stop to Nicaragua. Department of Commerce is partnering with the Department of State's EducationUSA Advising Centers. This trade mission is designed to be led by a senior Department of Commerce official and the emphasis will be on U.S. higher education, focusing on, in order of importance, intensive English language programs, community colleges, summer, undergraduate and graduate programs. Summer programs seeking to participate should be appropriately accredited by an accreditation body recognized by the U.S. Department of Education. Intensive English language programs seeking to participate should be accredited by the Commission on English Language Programs Accreditation (CEA) or appropriately accredited by an accreditation body recognized by the U.S. Department of Education. Community colleges, undergraduate and graduate programs seeking to participate should be accredited by a recognized accreditation body listed in Council for Higher Education Accreditation (CHEA) or Accrediting Council for Education and Training (ACCET), in the Association of Specialized and Professional Accreditors (ASPA), or any accrediting body recognized by the U.S. Department of Education.

This mission will seek to connect U.S. higher education institutions to potential students and university/institution partners in Central America. The mission will include student fairs organized by EducationUSA, embassy briefings, site visits, and networking events. San Salvador, Santa Ana, Tegucigalpa, and Managua, are four of the top cities for recruiting students from Central America to the United States. Participating in the Education Mission, rather than traveling to these markets independently, will enhance the participants ability to secure appropriate meetings, especially in light of the high level engagement and support of U.S. education by the U.S. ambassadors in El Salvador and Honduras.

Commercial Setting

There are several types of opportunities in Central America for U.S. English as a Second Language programs, summer programs, community colleges, and U.S. universities offering undergraduate as well as graduate programs.

In March 2011, President Obama launched “100,000 Strong in the Americas” to increase educational exchanges in the Western Hemisphere. Enhancing education is a key driver in improving socioeconomic indicators in the region. “100,000 Strong” bridges the critical relationship between broader educational opportunity and greater regional prosperity. Expanding study abroad opportunities for students, our future leaders and innovators, strengthens bi-national relations and better prepares young people for the 21st century global workforce. The goal of this initiative is to have 100,000 students moving in each direction annually by 2020. Currently, 45,000 U.S. students study in Latin America and the Caribbean and 68,000 Latin American and Caribbean students study in the United States each year. The initiative seeks to more than double these numbers in less than ten years.¹

¹ U.S. Department of State, 100,000 Strong in the Americas, http://www.state.gov/p/wha/rls/fs/2013/214201.htm.

The Western Hemisphere represents a thriving market of nearly one billion people. Approximately 40 percent of U.S. exports go to our Latin American and Caribbean neighbors, and Latin American exports to the United States are even higher. The middle class in Latin America has grown by 50 million in the last decade alone. President Obama believes that the Americas can become the most competitive region in the world. To accomplish this goal, we need to develop the skills to reach across borders to new markets, research, and opportunities.

The mission supports the Administration's Look South initiative, which encourages companies to explore opportunities in the United States' 11 free trade agreement partner countries in Latin America. Education services are in high demand throughout these growing and diversifying economies, which include El Salvador, Honduras, and Nicaragua.

The United States has long been a top destination for students looking to study abroad from El Salvador, Honduras, and Nicaragua. Since 2006, the United States has seen an increase in the number of Central American students. There are some 3,119 students currently studying in the United States from these three markets (1,172 Salvadoran, 1,513 Honduran, and 434 Nicaraguan students), an average 21.5 percent annual increase in the number of students from these three markets since 2006. The majority of the students from these three markets currently studying in the United States are undergraduate students (undergraduates make up 76.6 percent of Salvadoran students, 68.9 percent of Honduran students, and 62.4 percent Nicaraguan students). The top choice institutions for these undergraduate students are public 2 year community colleges.²

² Open Doors 2013: Country Overview—El Salvador, Honduras, and Nicaragua published annually by IIE with support from the U.S. Department of State's Bureau of Educational and Cultural Affairs,

The first stop on the mission itinerary is San Salvador, the capital city of El Salvador. This visit will give the delegates an opportunity to directly interact with officials from the Government of El Salvador regarding education opportunities. El Salvador is a country known for its universities: Some of the best universities of the world are situated in this Central American country. The universities of El Salvador prepare their students not only academically, but also for a successful professional future. Some of the important and popular universities of El Salvador are: University of El Salvador, Universdad Politecnica de El Salvador, Universidad del Salvador, Universidad Catolica de Occidente, Universidad Luterana Salvadorena, and Universidad Albert Einstein.³ K-12 schools in El Salvador, recognized by the Department of State, are Colegio Internacional del Salvador (CISS), Escuela Americana, and Academia Británica (ABC).⁴

³ Maps of the World: Education in El Salvador, http://www.mapsofworld.com/el-salvador/education/.

⁴ U.S. Department of State, Western Hemisphere, http://www.state.gov/m/a/os/c58262.htm.

CS El Salvador will organize meetings with appropriate Salvadoran government officials, an embassy reception, visits to local bilingual high schools, and a student fair.

After El Salvador, the group will travel to Honduras. The highest rate of enrollment in secondary schools is found in Honduras compared to El Salvador, Guatemala, and Nicaragua.⁵ The universities in Honduras are leaders in terms of education and research in Central America. Honduras also has the highest number of students enrolling in Intensive English.⁶ CS Honduras will arrange for mission participants to participate in student recruitment fairs, high school visits and optional one-on-one meetings.

⁵ The World Bank: Data: Secondary School Enrollment. http://data.worldbank.org/indicator/SE.SEC.ENRR.

⁶ Open Doors 2012: Intensive English Programs: All Places of Origin published annually by IIE with support from the U.S. Department of State's Bureau of Educational and Cultural Affairs. http://www.iie.org/Research-and-Publications/Open-Doors/Data/Intensive-English-Programs/All-Places-of-Origin/2012.

Finally, the delegation will have the option to participate in a stop in Nicaragua, the largest country in Central America, to participate in a student recruitment fair and site visits to American and other bilingual high schools for presentations. In Nicaragua, families have a long history of sending their children overseas to obtain further education.⁷

⁷ Maps of the World: Education in Nicaragua, http://www.mapsofworld.com/nicaragua/education/.

Mission Goals

The goals of the United States Education Mission to Central America are: (1) To help participants gain market exposure and to introduce participants to the vibrant Central American market in the cities of San Salvador, Tegucigalpa, Santa Ana, and Managua; (2) to help participants assess current and future business prospects by establishing valuable contacts with prospective students and educational institutions/partners; and (3) to help participants develop market knowledge and relationships leading to student recruitment and potential partnerships.

Mission Scenario

Participation in the mission will include the following:

• Pre-travel briefings/webinars

• Embassy/consulate and industry briefings

• Reception with Ambassador (if available)

• Student Fairs and local visits organized by EducationUSA in San Salvador, Santa Ana, and Tegucigalpa

• Airport transfers

• Optional Third stop in Managua, Nicaragua with student fair organized by EducationUSA and presentations.

Proposed Mission Schedule—March 16 to 21, 2015

El Salvador—March 15-17, 2015

Sunday, March 15, 2015

—Arrive in San Salvador

—Check into hotel

Monday, March 16, 2015 San Salvador

9:00 a.m. Briefing with U.S. and Foreign Commercial Service and Public Affairs (possible welcome remarks by Ambassador/DCM; topics trends in education, country overview, etc.)

10:30 a.m. One-on-One meetings

12:30 p.m. Visit to schools (tentative)

2:00 p.m. Lunch

4:00 p.m. Presentations (Student visa, 2+2 program, financial aid, etc.) Audience includes students and parents.

6:00 p.m. Education Fair (expected attendees 500 students and parents)

8:00 p.m. End of fair

Tuesday, March 17, 2015

9:00 a.m. Depart San Salvador to Santa Ana

11:00 a.m. Visit schools

12:00 p.m. Lunch

2:00 p.m. Presentations (Student visa, 2+2 program, financial aid, etc.) Audience includes students and parents.

3:00 p.m. Education Fair

6:00 p.m. Return to San Salvador

Tegucigalpa, Honduras—Wednesday, March 18, 2015

—Depart to Tegucigalpa

—Arrive in Tegucigalpa

—Check into hotel

—Embassy Briefing and Lunch with U.S. and Foreign Commercial Service and Public Affairs

—Presentations

—Education Fair

Thursday, March 19, 2015

—Networking breakfast with local schools

—One-on-One meetings

—Depart to Nicaragua for optional stop or return to the United States on own itinerary

Official Trade Mission Ends

Managua, Nicaragua (OPTIONAL)

Friday, March 20, 2015

—Breakfast Briefing with U.S. and Foreign Commercial Service and Public Affairs

—Education Fair at the North American Cultural Center of Nicaragua (CCNN)

—Presentation to companies in the Private Sector on Workforce Development opportunities

—Presentation to Schools

Saturday, March 21, 2015

—Departure to USA

Participation Requirements

All parties interested in participating in the mission to Central America must submit a complete application package for consideration to the U.S. Department of Commerce. All applicants will be evaluated on their ability to meet certain conditions and best satisfy the selection criteria as outlined below. The mission will open on a rolling basis to a minimum of 12 and a maximum of 15 appropriately accredited U.S. educational institutions. Both, U.S. educational institutions already recruiting students and developing partnerships in the region and those who are new to recruiting and developing partnerships in the region may apply.

Selection Criteria for Participation

• Consistency of the applicant's goals and objectives with the stated scope of the mission.

• Applicant's potential for doing business in Central America, including the likelihood of service exports (education)/knowledge transfer resulting from the mission.

Additional factors, such as diversity of institution size, type, location, and demographics, may also be considered during the review process.

Referrals from political organizations and any documents containing references to partisan political activities (including political contributions) will be removed from an applicant's submission and will not be considered during the selection process.

Conditions for Participation

An applicant must submit a timely, completed and signed mission application and supplemental application materials, including adequate information on course offerings, primary market objectives, and goals for participation. The institution must have appropriate accreditation as specified per paragraph one above. The institution must be represented at the student fair by an employee. No agents will be allowed to represent a school on the mission or participate at the student fair. Agents will also not be allowed into the fairs to solicit new partnerships. If the Department of Commerce receives an incomplete application, the Department may reject the application, request additional information, or take the lack of information into account when evaluating the applications.

Participants must travel to both stops in El Salvador and Honduras on the mission. Nicaragua is the only optional stop.

Each applicant must certify that the services it seeks to export through the mission are either produced in the United States, or, if not, marketed under the name of a U.S. firm and have at least 51 percent U.S. content of the value of the service.

Fees and Expenses

After an institution has been selected to participate on the mission, a payment to the Department of Commerce in the form of a participation fee is required. The participation fee is $2,208 for one principal representative from each non-profit educational institution or educational institution with less than 500 employees and $2,612 for for-profit universities with over 500 employees.⁸ An institution can choose to participate in the optional stop in Nicaragua for an additional $1,123 for one principal representative from each non-profit educational institution or educational institution with less than 500 employees and $1,350 for for-profit universities with over 500 employees. The fee for each additional representative is $500. Expenses for lodging, some meals, incidentals, and all travel (except for transportation to and from airports in-country, previously noted) will be the responsibility of each mission participant. The U.S. Department of Commerce can facilitate government rates in some hotels.

⁸ An SME is defined as a firm with 500 or fewer employees or that otherwise qualifies as a small business under SBA regulations (see http://www.sba.gov/services/contracting opportunities/sizestandardstopics/index.html). Parent companies, affiliates, and subsidiaries will be considered when determining business size. Non-profit educational institutions will be considered SMEs for purposes of this guidance. The dual pricing reflects the Commercial Service's user fee schedule that became effective May 1, 2008 (see http://www.export.gov/newsletter/march2008/initiatives.html for additional information).

Timeframe for Recruitment and Applications

Mission recruitment will be conducted in an open and public manner, including publication in the Federal Register, posting on the Commerce Department trade mission calendar (http://export.gov/industry/education/) and other Internet Web sites, press releases to general and trade media, direct mail, notices by industry trade associations and other multiplier groups, and publicity at industry meetings, symposia, conferences, and trade shows. Recruitment for the mission will begin immediately and conclude no later than January 15, 2015. Applications for the mission will be accepted on a rolling basis. Applications received after January 15, 2015, will be considered only if space and scheduling constraints permit.

Contact Information

U.S. and Foreign Commercial Service in Central America:

U.S. Export Assistance Center:

Gabriela Zelaya, Silicon Valley USEAC, Tel: 408-535-2757, ext. 107, Email: gabriela.zelaya@trade.gov.

Laura Gimenez, Commercial Officer, El Salvador, Tel: (011-503) 2501-3221, Email: laura.gimenez@trade.gov.

Aileen Nandi, Commercial Officer, El Salvador, Tel: (408) 535-2757, ext. 102, Email: aileen.nandi@trade.gov.

Sara Moreno, Lexington USEAC, Tel: 859-225-7001, Email: sara.moreno@trade.gov.

Elnora Moye,
Trade Program Assistant.

[FR Doc. 2014-13911 Filed 6-13-14; 8:45 am]

BILLING CODE 3510-DR-P